FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[July 1, 2011 thru July 29, 2011]
07/01/2011
20110962 | G | Terex Corporation; Demag Cranes AG; Terex Corporation.
20111032 | G | Wicks Communications & Media Partners III, UP.; Scheduling.com. Inc.; Wicks Communications & Media Partners III, L.P.
20111033 | G | Vector Capital IV International, L.P.; Gerber Scientific, Inc., Vector Capital IV International, L.P.
20111044 | G | Elon Musk; SolarCity Corporation; Elon Musk.
07/06/2011
20111047 | G | Golden Gate Capital Opportunity Fund, L.P.; EPMC Holdco, LLC; Golden Gate Capital Opportunity Fund, L.P.
07/08/2011
20111045 | G | General Dynamics Corporation; Liberty Partners Holdings 38, L.L.C.; General Dynamics Corporation.
20111048 | G | Carlyle Europe Partners III, L.P.; Gores Capital Partners II, L.P.; Carlyle Europe Partners III, L.P.
07/11/2011
20111052 | G | Genesis Energy, L.P.; Dennis A. Pasentine; Genesis Energy, L.P.
20111053 | G | American Industrial Partners Capital Fund IV, L.P.; Weyerhaeuser Company; American Industrial Partners Capital Fund IV, L.P.
20111055 | G | Forum Energy Technologies, Inc.; Carl A. Davis; Forum Energy Technologies, Inc.
20111058 | G | Christopher Cline; Canadian National Railway Company; Christopher Cline.
20111059 | G | OCP Trust; Accelerated Holdings Corporation; OCP Trust.
20111060 | G | Cengage Learning Holdings I, Limited Partnership; National Geographic Society; Cengage Learning Holdings I, Limited Partnership.
20111066 | G | PricewaterhouseCoopers LLP; PRTM Management Consultants, Inc.; PricewaterhouseCoopers LLP.
20111074 | G | Riverside Capital Appreciation Fund V, L.P.; MT Industries, Inc.; Riverside Capital Appreciation Fund V, L.P.
20111076 | G | Aetna Inc.; Genworth Financial, Inc.; Aetna Inc.
20111078 | G | Allied World Assurance Company Holdings, AG; Transatlantic Holdings, Inc.; Allied World Assurance Company Holdings, AG.
07/12/2011
20111050 | G | Alimentation Couche-Tard Inc.; Royal Dutch Shell plc; Alimentation Couche-Tard, Inc.
20111070 | G | Spectra Energy Corp.; ConocoPhillips; Spectra Energy Corp.
20111079 | G | Cargill, Incorporated; Teys Investments Pty Limited; Cargill, Incorporated.
20111080 | G | Cargill, Incorporated; Consolidated Press International Holdings Limited; Cargill, Incorporated.
07/13/2011
20110568 | G | Graeme R. Hart; Honeywell International Inc.; Graeme R. Hart.
20111039 | G | Iowa Health System; Methodist Health Services Corporation; Iowa Health System.
20111072 | G | eBay, Inc.; Roee Rubin; eBay Inc.
07/15/2011
20111028 | G | TPG Vienna Holdings, L.P.; StoneRiver Group, L.P.; TPG Vienna Holdings, L.P.
20111030 | G | V.F. Corporation; The Timberland Company; V.F. Corporation.
20111061 | G | Alimentation Couche-Tard, Inc.; Exxon Mobil Corporation; Alimentation Couche-Tard, Inc.
20111068 | G | Energy Capital Partners II-A, LP; Public Service Enterprise Group Incorporated; Energy Capital Partners II-A, LP.
20111081 | G | Jahm Najafi; Borders Group, Inc.; Jahm Najafi
20111083 | G | Li & Fung Limited; Felix A. Porcaro, Jr.; Li & Fung Limited
20111086 | G | Metropolitan Health Networks, Inc.; Continucare Corporation; Metropolitan Health Networks, Inc.
20111087 | G | Todd H. Epsten; James R. & Kristen A. Gustafson; Todd H. Epsten.
20111089 | G | Universal Stainless & Alloy Products, Inc.; 1386171 Ontario, Inc.; Universal Stainless & Alloy Products, Inc.
20111092 | G | Li & Fung Limited; Fishman & Tobin, Inc.; Li & Fung Limited.
20111093 | G | Windjammer Senior Equity Fund III, L.P.; Joseph W. Chambers, Jr.; Windjammer Senior Equity Fund III, L.P.
20111097 | G | Sunoco Logistics Partners L.P.; Texon Holding II L.P.; Sunoco Logistics Partners L.P
20111101 | G | Fiat S.p.A.; Chrysler Group LLC; Fiat S.p.A.
07/18/2011
20110985 | G | EMC Corporation; CPTN Holdings LLC; EMC Corporation.
20111098 | G | Vanguard Health Systems, Inc.; Valley Baptist Health System; Vanguard Health Systems, Inc.
07/19/2011
20111096 | G | Industrial Growth Partners III, L.P.; Aurora Resurgence Fund (C) L.P.; Industrial Growth Partners III, L.P.
07/20/2011
20111015 | G | Polycom, Inc.; Hewlett-Packard Company; Polycom, Inc.
20111094 | G | BHI Holding Corp.; Falfurrias Capital Partners, LP; BHI Holding Corp.
07/21/2011
20111034 | G | Cardtronics Inc.; Alpine Investors III, L.P.; Cardtronics Inc.
07/22/2011
20111095 | G | Blackstone Capital Partners VI Fund L.P.; Goldman Sachs Vintage Fund IV Offshore, L.P.; Blackstone Capital Partners VI Fund L.P.
20111102 | G | Aurora Equity Partners IV, L.P.; Wingate Partners III, L.P.; Aurora Equity Partners IV, L.P.
20111105 | G | GP Capital Partners III, L.P.; Fogo de Chao Churrascaria (Holdings) LLC; GP Capital Partners III, L.P.
20111110 | G | CA, Inc.; Interactive TKO, Inc.; CA, Inc.
20111111 | G | Porsche Automobil Holding SE; MAN SE; Porsche Automobil Holding SE.
20111114 | G | Sound Credit Union; Watermark Credit Union; Sound Credit Union.
20111120 | G | Andre Delachaux; Sodelho S.A.S.; Andre Delachaux
20111126 | G | Sunoco Logistics Partners L.P.; ConocoPhillips; Sunoco Logistics Partners L.P.
20111128 | G | Sterling Investment Partners II, L.P.; Thoma Cressey Fund VIII, L.P.; Sterling Investment Partners II, L.P.
20111132 | G | Astellas Pharma, Inc.; Vical Incorporated; Astellas Phanna, Inc.
20111133 | G | BHP Billiton Limited; Petrohawk Energy Corporation; BHP Billiton Limited.
07/25/2011
20110910 | G | Perrigo Company; Bruce Paddock; Perrigo Company.
20111085 | G | Welsh, Carson, Anderson & Stowe IX, L.P.; Community Health Systems, Inc.; Welsh, Carson, Anderson & Stowe IX, L.P.
20111100 | G | Ocwen Financial Corporation; The Goldman Sachs Group, Inc.; Ocwen Financial Corporation.
20111115 | G | Charles W. Ergen; TerreStar Corporation; Charles W. Ergen.
20111122 | G | Accenture PLC; Duck Creek Technologies, Inc.; Accenture PLC.
07/27/2011
20111057 | G | Catholic Health Initiatives; Nebraska Heart Hospital, LLC; Catholic Health Initiatives.
20111130 | G | Electronic Arts, Inc.; PopCap Games, Inc.; Electronic Arts, Inc.
07/29/2011
20110970 | G | Air Methods Corporation; Wind Point Partners V, L.P.; Air Methods Corporation.
20111069 | G | Oracle Corporation; CPTN Holdings LLC; Oracle Corporation.
20111112 | G | Telefonaktiebolaget LM Ericsson; Telcordia Holdings, Inc.; Telefonaktiebolaget LM Ericsson.
20111125 | G | NCR Corporation; Radiant Systems. Inc.; NCR Corporation.
20111138 | G | AIF VII Euro Holdings, L.P.: Alexey Mordashov; AIF VII Euro Holdings, L.P.
20111141 | G | VCA Antech, Inc.; Vestar Capital Partners V, L.P.; VCA Antech, Inc.
20111142 | G | Leucadia National Corporation; Mueller Industries, Inc.; Leucadia National Corporation.
20111144 | G | John M. Pasquesi; Arch Capital Group Ltd.; John M. Pasquesi.
20111148 | G | JPMorgan Chase & Co.; APAC Customer Services, Inc.; JPMorgan Chase & Co.
20111149 | G | Trimble Navigation Limited; Wells Fargo & Company; Trimble Navigation Limited.
20111151 | G | Key Energy Services, Inc.; Summit Oilfield Services, L.L.C.; Key Energy Services, Inc.
20111152 | G | Key Energy Services, Inc.; Edge Oilfield Services Holding, L.L.C.; Key Energy Services, Inc.
20111153 | G | eBay, Inc.; Zong SA; eBay, Inc.
20111156 | G | Accel-KKR Capital Partners III, LLP; Thomas E. Kolassa; Accel-KKR Capital Partners III, LLP.
20111157 | G | Friedman Fleischer & Lowe Capital Partners III, L.P.; JLL Partners Fund IV, L.P.; Friedman Fleischer & Lowe Capital Partners III, LP.
20111158 | G | Riverstone/Carlyle Renewable & Alternative Energy Fund II-C; MEG Holdings, LLC; Riverstone/Carlyle Renewable & Alternative Energy Fund II-C.
20111165 | G | Anatoly Sedykh; Tubular Holdings, LLC; Anatoly Sedykh.

FOR FURTHER INFORMATION CONTACT: Renee Chapman, Contact Representative, Federal Trade Commission, Premerger Notification Office, Bureau of Competition, Room H-303, Washington, DC 20580, (202) 326-3100.

By Direction of the Commission.
Donald S. Clark,
Secretary.

[FR Doc. 2011-20023 Filed 8-9-11; 8:45 am]

BILLING CODE 6750-01-M